DEPARTMENT OF AGRICULTURE

Forest Service

Sierra National Forest; California; Kings River Project

AGENCY: Forest Service, USDA.

ACTION: Notice of intent to prepare a supplement to the Kings River Environmental Impact Statement.

SUMMARY: The Forest Service will prepare a supplement to the 2006 Kings River Project Final Environmental Impact Statement (FEIS). The supplement will be focused on new information and clarification, particularly related to Pacific fisher; a new multi-forest Land Management Plan Amendment regarding management indicator species; applicable suggestions in a new paper titled An Ecosystem Management Strategy for Southern Sierra Mixed-Conifer Forests by North, M., P. Stine, K. O'Hara, W. Zielinski and S. Stephens; and collaboration that may result in a change in the timing, description, and location of activities within the project area.

DATES: Scoping is not required for supplements to environmental impact statements (40 CFR 1502.9(c)4(4)). The draft supplement to the FEIS is expected to be issued in April 2008 and the final supplement to the FEIS is expected in July 2008. Comments on the draft supplement to the FEIS must be received by 45 days after publication.

ADDRESSES: Send written comments to Ray Porter, District Ranger, High Sierra Ranger District, PO Box 559, Prather, CA 93651, Attn: Kings River Project Supplement.

FOR FURTHER INFORMATION CONTACT: Ross Peckinpah, Kings River Project Coordinator, at the High Sierra Ranger District. Telephone number is (559) 855-5355 x3350. Information regarding the Kings River Project can be found on the Sierra National Forest Web site located at: http://www.fs.fed.us/sierra/projects/.

SUPPLEMENTARY INFORMATION:

Background

The Kings River planning area encompasses approximately 131,500 acres of public lands in two watersheds of the Kings River drainage. The northern edge of the project is located about two miles southeast of Shaver Lake, CA.

One hundred years of fire suppression in the Sierra Nevada has resulted in forests full of dead wood and thickly clustered trees. This situation, plus continued urbanization of lands adjacent to national forest lands, has put the forests and homes at risk of catastrophic fire. A FEIS was released in October of 2006 addressing the situation in the Kings River Project area that applied an uneven aged silvicultural system and prescribed fire upon eight units totaling 13,700 acres. On December 20, 2006 the Record of Decision (ROD) for the Kings River Project was signed. The decision was appealed and upheld by the Regional Forester. In May of 2007 a lawsuit was filed against the Forest Service that alleged the analysis conducted for the Kings River Project FEIS and ROD was inadequate. Since that time additional information has developed to help analyze effects of restoration projects on sensitive wildlife species like Pacific fisher. A new multi-forest Land Management Plan Amendment has also been issued regarding management indicator species. A new paper suggesting An Ecosystem Management Strategy for Southern Sierra Mixed-Conifer Forests by North, M., P. Stine, K. O'Hara, W. Zielinski and S. Stephens is about to be peer reviewed and published. Collaborative efforts with those who opposed this project and/or new information could change the timing, description, and location of activities within the project area that would require supplementing the FEIS and publishing a new ROD. As a result of this, the December 20, 2006 ROD was withdrawn.

Purpose and Need for Action

This supplement is focused on new information and clarification, particularly related to Pacific fisher; a new multi-forest Land Management Plan Amendment regarding management indicator species; applicable suggestions in a new paper titled An Ecosystem Management Strategy for Southern Sierra Mixed-Conifer Forests by North, M., P. Stine, K. O'Hara, W. Zielinski and S. Stephens; and ongoing collaboration so the purpose and need for action remain the same as was described in the 2007 Kings River Project FEIS. “The underlying need for the proposed action is to restore historical pre-1850 forest conditions across a large landscape” (Kings River Project FEIS pg. 1-4).

Proposed Action

The proposed action and all alternatives are expected to remain the same as was described in the 2007 Kings River Project FEIS. Three alternatives were analyzed in the FEIS to address the Purpose and Need: (1) The Proposed Action—including commercial tree harvest & thinning, underburning, reforestation, plantation maintenance, fuels treatments, watershed restoration projects, and herbicide treatments to plantations and noxious weeds, (2) No Action and (3) Reduction in Harvest Tree Size—limiting the vegetation treatments to trees 30″ diameter and smaller; treatment of understocked areas associated with existing openings by site prep, planting and release. The alternatives and proposed action will be informed by the new information and could result in their modification.

Responsible Official

Ed Cole, Forest Supervisor, Sierra National Forest, 1600 Tollhouse Ave., Clovis, CA 93612.

Commenting and Review

A draft supplement to the Kings River Project Environmental Impact Statement will be prepared for comment. The comment period will be 45 days from the date the Environmental Protection Agency publishes the notice of availability in the Federal Register. The paragraphs that follow are standards that apply all EIS related actions including a supplement to a FEIS.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this supplement and will be available for public inspection.

(Authority: 40 CFR 1501.7 and 1508.22; Forest Service Handbook 1909.15, Section 21)

Dated: February 22, 2008.
Edward C. Cole,
Forest Supervisor.

[FR Doc. E8-3772 Filed 2-27-08; 8:45 am]

BILLING CODE 3410-01-P